DEPARTMENT OF COMMERCE

[Docket No.: 140826721-4999-02]

Privacy Act New System of Records

AGENCY: Department of Commerce.

ACTION: Notice; Commerce/Department-10, Executive Correspondence Files.

SUMMARY: The Department of Commerce (Commerce) publishes this notice to announce the effective date of a Privacy Act System of Records entitled Commerce/Department-10, Executive Correspondence Files.

The notice of proposed amendment to this system of records was published in the Federal Register on October 14, 2014.

DATES: The system of records becomes effective on Dece mber 8, 2014.

ADDRESSES: For a copy of the system of records please mail requests to Brenda Dolan, Office of Privacy and Open Government, U.S. Department of Commerce, Suite A300, Room A326, 1401 Constitution Avenue NW., Washington, DC 20230.

FOR FURTHER INFORMATION CONTACT: Brenda Dolan, Office of Privacy and Open Government, 202-482-3258.

SUPPLEMENTAL INFORMATION: On October 14, 2014, the Department of Commerce published and requested comments on a proposed Privacy Act System of Records entitled Commerce/Department-10, Executive Correspondence Files (79 FR 61599). That notice informed the public that the Department of Commerce is updating: The categories of records in the system to include databases and electronic files; the system location(s); the routine uses to include the breach notification routine use; the safeguards and storage to include electronic records; the system manager(s) and addresses; the notification procedure; and the record source categories to include interaction with correspondent/Department contact. No comments were received in response to the request for comments. By this notice, the Department is adopting the proposed system as final without changes effective December 8, 2014.

Dated: December 2, 2014.
Brenda Dolan,
Freedom of Information and Privacy Act Officer, U.S. Department of Commerce.

[FR Doc. 2014-28712 Filed 12-5-14; 8:45 am]

BILLING CODE 3510-17-P